DEPARTMENT OF STATE

[Public Notice 3320]

Discretionary Grant Programs Application Notice Establishing Closing Date for Transmittal of Certain Fiscal Year 2000 Applications

AGENCY: The Department of State invites application from domestic (U.S.) and international non-profit and educational organizations with interest and expertise in providing administrative and operational support to United States sponsored programs in Cyprus. The grantee will maintain and manage the Bicommunal Support Program (BSP) to be known as BSP 2000. The grant will be awarded through an evaluation process among the responding organizations.

SUMMARY: The purpose of this application notice is to inform potential applicant organizations of fiscal, programmatic information, and closing dates for transmittal of applications for Fiscal Year 2000 award under a program administrated by the Department of State. The program seeks to implement, under the direction of the American Embassy, Cyprus, a minimum of twelve (12) bicommunal programs for Greek Cypriots and Turkish Cypriots over a fourteen-month period starting approximately forty-five days from the notification date of grant award, but not later than 5 September 2000. The actual number of programs will be determined by availability of funds and changes in political conditions on the island.

Organization Notice: This notice contains three parts. Part I list the closing date covered by this notice. Part II consist of a statement of work (SOW) for the program. Part III provides fiscal information and evaluation criteria for the program.

Part I—Closing Date for Transmittal of Applications

An application for award must be received by mail or hand delivered by 4 pm, local time, 30 June 2000.

Applications Delivered by Mail

An Application sent by mail must be addressed to: Dr. Holly Peirce, Bicommunal Coordinator, American Embassy Nicosia, FPO, AE 09836.

Any applications received by the advisory committee staff by mail after the closing time and date, will not be considered and will be returned unopened to the applicant.

It is the responsibility of the applicant to ensure any application is received on time.

Application Delivered by Hand

An application that is hand delivered must be to: American Embassy, North Gate, Metochiou and Ploutarchou Streets, Engomi, Nicosia, Cyprus, Attention: Holly Peirce (x2064) or Rita Shipillis (x2605).

The advisory committee staff will accept hand-delivered applications between 9 am and 4 pm, local time, daily, except Saturdays, Sundays, and Cypriot and U.S. Federal Holidays.

An application that is hand delivered will not be accepted after 4:00 PM on the closing date.

Part II—Program Information

Background

a. For decades, Cyprus has been an island divided by strife between the Greek Cypriot and Turkish Cypriot communities. As a result, Cyprus is a potential flash point between two NATO allies, Greece and Turkey. The U.S. is committed to finding a reasonable and practical federal solution to the Cyprus problem. We utilize two main means in our efforts. Track I focuses on bringing the leaders of the two communities to negotiate a resolution of their difficulties. Track II creates the atmosphere for the political leaders to reach a settlement, as well as encouraging cooperation after a political solution is reached, by bringing together Cypriot opinion and business leaders on projects and activities which emphasize a political settlement. The BSP is a key part of our Track II efforts.

b. The BSP was created in January 2000 to provide a funding mechanism consistent with the legislative intent of the Economic Support Funds (ESF) annual earmark for Cyprus.

c. The BSP mechanism will carry out U. S. Embassy-designed bicommunal programs that involve key people and institutions on politically sensitive topics in support of Track I policy goals. These programs will be distinct from but complementary to, the UNDP/UNOPS Bicommunal Development Program, which funds practical bicommunal projects and aims to strengthen institutional development and civil society, and with the Fulbright Commission-administered CASP, which funds scholarships, technical training and open-competition bicommunal programs.

d. The BSP program agent (the Grantee) will implement BSP programs by awarding sub-grants. In support of its base of operations, it will maintain a full-time resident representative in Cyprus in a Nicosia Field Office to organize bicommunal programs with input from the U. S. Embassy's Bicommunal Team, communicated via the Bicommunal Coordinator (BC) or other designee. Because of the political and economic conditions on the island, the full-time resident representative should be a locally hired American. After a grantee is selected, the U. S. Embassy BC will assist the grantee to identify qualified candidates on the island. Estimated recruitment cost of the Field Office Representative (FOR) (including advertising, travel, lodging, and per diem either for a grantee representative to come to Cyprus to select and train the FOR or for the FOR to go to the US for training) should be itemized in the budget submittal. The grantee has the option to send and provide a representative to hire and train the FOR in Cyprus, or conduct job interviews by phone and train the FOR at a location of their choice. After training, the grantee is to provide a facility and the FOR will establish and open the field office. The Grantee will implement bicommunal programs under the Embassy's direction, in furtherance of Track 1 policy goals. The BC or other Embassy designee will approve all sub-grants prior to award.

e. At present there is a Turkish-Cypriot ban on on-island bicommunal activities that necessitates that programs be conducted in the U.S. and third countries. When the ban is lifted, more programming will be done on-island. All programs will be bicommunal in nature; i.e. Greek Cypriots and Turkish Cypriots will receive training or attend conferences together. Occasionally it may be necessary to conduct separate, parallel training for both communities. Most training will be of a professional nature and focus on areas where both communities will work together in the future (e.g. environment, customs and immigration, finance, health, federal law enforcement, and federalism). Most training will include an element of conflict resolution skills. Groups will likely range from four to twenty participants off-island and more on-island. The typical program has lasted between one and three weeks, with an occasional smaller program of a longer duration. Potential workshop topics include, but are not limited to highway planning, fire fighting, emergency rescue techniques, NGO training, a Cyprus documentary, and ESOL teachers scholarships. The Bicommunal Coordinator will assist the FOR in bundling the selected programs for the purposes of RFPs.

Scope of Work

The Grantee shall implement the BSP program in accordance with the following:

The Grantee will:

(1) Provide at a minimum one permanent FOR, experienced in human resource development, institution strengthening, and technical assistance programming.

In addition:

(a) Grantee must be a Program Sponsor and be approved to write IAP66 forms for travel to the U. S. on J visas.

(b) Grantee must be aware that acquiring visas for Turkish Cypriots to most third-countries can be a lengthy process.

(c) Grantee must be aware that Turkish Cypriots must fly from Ercan airport to Turkey and onward from there. Most travel agents speak only Turkish, but are accustomed to working with U.S. Embassy programs.

(d) Grantee must be aware that Greek Cypriots fly from Larnaca airport. Most travel agents speak some English.

(e) The Joint Travel Regulations and the Fly America Act apply to all travel.

(2) Provide FOR(s) with administrative, logistics and programming support in the United States to carry out U.S.-based workshops.

The FOR(s) will:

(1) The FOR(s) must be competent in making travel and related arrangements, to include assisting Cypriots in acquiring visas to the U.S. and other countries, as well as arranging on-island speeches and programs.

(2) The FOR(s) must have excellent written and spoken English skills.

(3) The FOR(s) must seek and obtain policy guidance from the Embassy and demonstrate ability to work effectively in a highly charged and delicate political atmosphere. Familiarity with the Cyprus problem and/or experience working in internal conflict situations would be helpful.

(4) The FOR(s) must have the ability to function unimpeded in both communities (i.e., to cross the Green Line between the Greek Cypriot and Turkish Cypriot communities). Currently Cypriots are prevented from working in each other's communities. Due to the political sensitivity of the program, it is necessary that neither Greek Cypriots nor Turkish Cypriots be hired for this program. A local hire American citizen(s) should be contracted for the position. (See point d in Background section) Greek and/or Turkish language skills are desirable, but not necessary, as English is widely spoken in the south and among the target training audience. A translator may occasionally need to be employed for logistical dealings in the north.

Note: The Embassy will seek approval by the Government of Cyprus to grant the FOR administrative and technical (A and T) status, thereby enabling the Grantee to obtain a diplomatic pass, which facilitates travel to the north. If such status is granted to the Grantee, he/she becomes associated with the U.S. Embassy and will be asked adhere to U.S. Embassy standards of conduct. Note that spouses of diplomatic personnel have generally unimpeded access to the north and would not need A&T status.

Work Requirements

The Grantee will manage the U.S. Embassy Nicosia's BSP funds over a fourteen-month period. The Grantee will:

1. Take direction from the U.S. Embassy's Bicommunal Team via the Bicommunal Coordinator or other embassy designated individual.

2. Implement programs requested by the U.S. Embassy, via the Bicommunal Coordinator, to train U.S. Embassy-selected Greek Cypriot and Turkish Cypriot participants either in the U.S., Cyprus, or a third country.

3. Implement a minimum of twelve programs with the BSP 2000 funds within the fourteen-month period.

4. Coordinate with the Program Office any reprogramming of unspent BSP funds six months prior to the end of the grant.

5. Implement the program which will include, but is not limited to:

Cyprus-based:

(a) Draft Requests for Proposals (RFPs) for approval by the Bicommunal Coordinator and the U.S. Embassy's Bicommunal Team.

(b) Handle pre-departure logistics, including but not limited to: invitation letters, international air travel, health insurance for third-countries, passports, visas, military-service waivers, U.S. tax forms, and orientation in both communities.

(c) Consult with Bicommunal Coordinator and Public Affairs Officer (PAO) regarding favorable publicity opportunities.

(d) Issue participant reimbursements for miscellaneous expenses.

(e) Debrief participants in conjunction with Bicommunal Coordinator.

(f) Maintain accounting control over the funds provided by BSP by following standard U.S. accounting practices and the requirements of OMB Circulars A-122 and A-133.

(g) Obtain reports from sub-grantees within sixty (60) days of program completion for review by the Bicommunal Coordinator and U.S. Embassy's Bicommunal Team.

U.S.-based:

(h) Issue, receive and evaluate offers from RFPs submitted by potential sub-grantee(s). Provide recommendations to FOR and Bicommunal Coordinator.

(i) Negotiate package(s) with Embassy-selected sub-grantee.

(j) Acquire health insurance for participants in U.S.-based programs.

(k) Issue payments to sub-grantee(s).

(l) Maintain accounting control over the funds provided by BSP by following standard U.S. accounting practices and the requirements of OMB Circulars A-122 and A-133.

(m) Obtain reports from sub-grantees within sixty (60) days of program completion for review by the Bicommunal Coordinator and U.S. Embassy's Bicommunal Team.

6. Liaison with main office in United States.

7. Maintain office supervision of the Nicosia Field Office. The person responsible for supervising the Nicosia Field Office is required to visit Cyprus at least twice during the grant for consultations.

8. Ensure the Nicosia Field Office is adequately covered, either locally or from the U.S. office, during the local Grantee's vacations.

9. Obtain Embassy Nicosia concurrence for other employment, or membership in organizations, organized political or other activity which could give the impression of partiality to one side or the other.

10. Establish the Nicosia Field Office complete with phone, fax, email, and computer with Grantee resources and at the Grantee's expense.

11. Have the Nicosia Field Office functioning with the employee(s) in place and work space acquired no later than 45 days from the date which the Grantee is notified of its bid being accepted, or 5 September 2000, whichever is sooner. The Grantee will have at least half the RFPs announced by 29 September and at least two programs scheduled to begin no later than 1 December 2000.

Reporting Requirements

a. The Grantee shall furnish two short monthly reports (a Chronological Individual Program Update and a Financial Report) on the status of the programs (including, but not limited to: title, dates, location, purpose, numbers of participants, sub-grantee, cost of individual programs, remaining budget, and any problems encountered) of the requested workshops and activities to the Bicommunal Coordinator on or before the first Monday of each month. The Embassy Bicommunal Team, via the Bicommunal Coordinator or other designee, has the authority to request that additional information be included in the reports if deemed necessary by the Embassy.

b. Provide A/LM/AQM with one administrative copy of each report.

c. The Grantee shall furnish seven (7) copies of a quarterly report and a final report in a format similar to the monthly reports to the Embassy (Bicommunal Coordinator, ADMIN, PAO, ECON/USAID, POL, DCM, and Ambassador) and one (1) copy to A/LM/AQM and one (1) to the Cyprus Desk in Washington, DC. The quarterly reports shall include but are not limited to: title, dates, location, purpose, number of participants, sub-grantee, cost of individual programs, unspent budget funding, and any problems encountered by the requested workshops to the Bicommunal Coordinator no later than September 30, 2000, December 30, 2000, March 30, 2001, June 30, 2001, and September 30, 2001. The Embassy Bicommunal Team, via the Bicommunal Coordinator or other designee, may request additional information if required by the Embassy.

d. The Grantee will revise the Administrative Budget during the seventh month to accurately reflect the actual costs of the programs and assist in the budgeting of future programs. If actual costs have exceeded the fifteen (15%) percent of the original budget, a supplemental report must be submitted to the Grant Officer explaining the cause, with justification if possible, within ten working days of the report.

e. The Grantee will provide reports on each completed sub-grant, ensure that best practices are implemented by all participants, and make suggestions for programs/economies/efficiencies, as well as providing management and accounting reports to improve the operation of BSP.

f. Under no circumstances may the Grantee expend or obligate the U.S. government for costs in excess of this cooperative agreement.

Part III—Fiscal Information and Evaluation Criteria

Awards are contingent upon the availability of funds. Funding may be available at a level up to $1.6 million. The precise level of funding will not be known until legislative action is complete. In Fiscal Year 1999 the Congress appropriated “Economic Support Fund” of $15,000,000 to be used only for scholarships, administrative support of the scholarship program, bicommunal projects, and measures aimed at reunification of the island and designed to reduce tensions and promote peace and cooperation between the two communities on Cyprus. The funding for each area varies each year depending upon events and conditions on the island.

The Department cannot commit funds that may be appropriated in subsequent fiscal years. This potential multi-year program cannot receive assured funding unless such funding is supplied out of a single year's appropriation. Grant agreements may permit the expenditure from a particular year's grant to be made for up to three years after the grant's effective date.

Applications

Applications must be prepared and submitted in seven (7) copies in the form of a statement, the narrative part should not exceed 15 double spaced pages. A one page executive summary, an itemized budget and budget summary, and vitae of proposed staff must accompany this, with the exception of the FOR who may be hired locally after the award. Applicants may append other information they consider essential, although bulky submissions are discouraged and run the risk of being confusing, conflicting, and unclear. The one-page executive summary and budget submission should precede the narrative in the proposal.

The proposed program should be described fully, including goals and benefits for cooperation and reunification of the two communities. All applicants should provide detailed information about their plans and procedures for advertising, receiving, reviewing, and awarding a minimum of twelve programs, preferably in bundled RFPs.

A description of affirmative action policies and practices must be included in the application.

Applications should include certification of compliance with the provisions: (1) The Drug Free Workplace Act (PL 100-690) in accordance with Appendix C of 22 CFR 137, Subpart F; and (2) Section 319 of the Department of Interior and Related Agencies Appropriate Act (PL 101-121) in accordance with Appendix A of 22 CFR 138, New Restrictions on Lobbying Activities.

Grants awarded to eligible organizations with less than four years experience in conducting international exchange programs will be limited to $60,000.

Budget

Applicants should familiarize themselves with Department of State grant regulations contained in 22 CFR 145, “Grants and Cooperative Agreements with Institutions of Higher Education, Hospitals, and other Non-profit Organizations” OMB Circular A-110, “Grants and Agreements with Institutes of Higher Education * * * Uniform Administrative Requirements”, and “Audits of Institutions of Higher Learning and other Non-profit Institutions” OMB Circular A-133, and indicate or provide the following information:

(1) Whether the organization falls under OMB Circular A-21, “Cost Principles for Educational Institutions”, or OMB Circular A-122, “ Cost Principles for Non-profit Organizations”;

(2) A detailed program budget indicating labor categories, number of employees proposed, hourly rates, and number of hours proposed, applicable overhead cost, administrative cost including rent, utilities, office equipment, travel expenses, supplies, etc, and overall indirect rates in cost and by percentage. It is the desire of the Department of State to have the maximum utilization of the limited funds used for program operation in lieu of administrative and indirect cost. A “Special Note” to offerors. While the grant may not be awarded on the basis of lowest overall cost, the program cost to administrative cost and the direct cost to indirect cost ratios will be an important issue in the final selection. Applicants requesting funds to supplement a program having other sources of support should submit a current budget for it showing how specific lines in the budget would be affected by the allocation of requested grant funds. Other funding sources and amounts, when known, should be identified.

(3) The applicant's cost sharing proposal, if applicable containing appropriate details and cross-references to the requested budget.

(4) The organization's most recent audit report (the most recent U.S. Government audit report if available) and the name, address, and point of contact of the audit agency. Notice to Applicants: The threshold for grants that trigger an audit requirement under OMB Circular A-133 has been raised from $25,000.00 to $300,000.00.

(5) An indication of the offer's priorities if funding is being requested for more than one program or activity.

All payments will be made to the recipient through the Department of State.

Evaluation Factors and Proposal Selection

A Technical Evaluation Panel (TEP) will perform the technical review from the U.S. Embassy's Bicommunal Team in Nicosia.

A/LM/AQM will make the final selection after reviewing evaluation results and recommendations from the TEP. The applicant should describe its overall organizational and management structure. Domestic and international. It should describe how the capabilities of this structure will compliment actual operation and success of the program. It should describe all previous experience with similar programs and layout tentative operational plans that demonstrate complete understanding of the requirements of the Statement of Work. The proposal should reflect the institution's expertise in international affairs, especially those that pertain to the current political, economic, and social environment on the island of Cyprus. Since the BSP focuses on bringing together the Greek Cypriot and Turkish Cypriot communities on Cyprus, a perception of total impartiality in the application will also be a tantamount issue. The proposal should also demonstrate the applicant's overall management approach is rational and within reason. The technical elements of the proposal will be significantly more important than the cost proposal in the final selection process. The applicant should specifically address each of the evaluation criteria elements identified below. The proposal should address succinctly, but completely, the elements described below and follow the format requirements. Proposals should include the following items:

TAB A—Table of Contents and Executive Summary

TAB B—Narrative

The narrative should demonstrate proven ability to handle logistics as well as include the U.S. institution's mission and date of establishment.

TAB C—Budget Submission

The budget included with the proposal should be broken down into the administrative direct cost of the program and the indirect cost. Direct costs are those costs that are totally attributed to the cost of the program. Indirect costs are those costs that are attributed to the overall operation of the organization.

TAB D—Past Performance References

At a minimum, the applicant will provide the following information for three references:

• Name of the referenced organization

• Project name

• Project description

• Performance period of the contract/grant

• Amount of the contract/grant

• Technical contact person and telephone number for referenced organization

• Administrative contact person and telephone number for referenced organization

A/LM/AQM may contact representatives from the organizations cited in the examples to obtain information on the applicant's past performance. A/LM/AQM also may obtain past performance information from sources other than those identified by the applicant.

Resumes

Resumes of any key program staff, except the proposed FOR should be included in the submission. Proposed personnel and institutional resources should be adequate and appropriate to achieve the program's goals. Resume should not exceed two pages.

The proposals will be considered on the following criteria in priority order:

A. Organizational Capabilities

1. Organizational experience and/or knowledge of the political, economic, and social environment on Cyprus.

2. Demonstrates sensitivity to political and cultural concerns of a divided Cyprus.

3. Demonstrates an understanding of the program.

4. Qualifications and experience of corporate staff.

5. The organizational structure and management capabilities of the offeror.

6. The international structure and experience of the offeror.

B. Program Capabilities

1. Ability to have Nicosia Field Office open by 21 August 2000.

2. Demonstrates understanding of program and experience and knowledge to provide the development of the Bicommunal programs.

C. Program/Administrative and Direct/Indirect Cost Comparisons and Overall Cost

Proposal Deadline

Seven copies of the proposal should be submitted by 30 June 2000, 4 pm local time to:

An Application sent by mail must be addressed to: Dr. Holly Peirce, Bicommunal Coordinator, American Embassy Nicosia, FPO, AE 09836.

An application that is hand delivered must be to: American Embassy, North Gate, Metochiou and Ploutarchou Streets, Engomi, Nicosia, Cyprus, Attention: Holly Peirce (x2064) or Rita Shipillis (x2605).

Scott McDonald,
Post Management Officer, Bureau of European Affairs, Department of State.

[FR Doc. 00-13538 Filed 5-30-00; 8:45 am]

BILLING CODE 4710-23-P